POSTAL SERVICE

39 CFR Part 111

Address Correction Notices IMpb

AGENCY: Postal Service™.

ACTION: Proposed rule.

SUMMARY: The Postal Service is proposing to amend Mailing Standards of the United States Postal Service, Domestic Mail Manual (DMM®) in various sections to remove the hardcopy address correction notice option for all packages bearing an Intelligent Mail® package barcode (IMpb®).

DATES: Submit comments on or before September 5, 2024.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Address Correction Notices IMpb”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Michelle Evans at (901) 681-4474 or Garry Rodriguez at (202) 268-7281.

SUPPLEMENTARY INFORMATION: All submitted comments and attachments are part of the public record and subject to disclosure. Do not enclose any material in your comments that you consider to be confidential or inappropriate for public disclosure.

Background

Ancillary service endorsements provide an option for mailers to instruct the Postal Service on how to treat their mail if it is determined to be undeliverable-as-addressed and to request address correction services. Address corrections are currently available in four available formats: a returned mailpiece with the new address or reason for nondelivery attached; PS Form 3547, Notice to Mailer of Correction in Address, that is mailed to the return address on a mailpiece; PS Form 3579, Notice of Undeliverable Periodical, mailed to the publisher address indicated in the publication ID Statement; or via ACS™ (Address Change Service) which is an electronic address correction notice made available to the sender via download from a secure USPS website that requires a login and password to access the files. Address correction fees are charged based on the method in which they are provided, with return mail costs and manual address correction fees that reflect the USPS costs to handle those notices.

The IMpb applied to packages allows shippers to obtain postage discounts and the ability to track their packages through the Postal network. The Postal Service can effectively provide address correction notices to our IMpb mailers electronically via ACS faster and more efficiently.

Proposal

The Postal Service is proposing to remove the option to request PS Forms 3547, Notice to Mailer of Correction in Address, and PS Form 3579, Notice of Undeliverable Periodical, for packages with an IMpb.

IMpb mailers that desire address correction information from undeliverable as addressed (UAA) mail will be required to receive address correction notices electronically via ACS. IMpb mailers will have to sign up for IMpb ACS or Traditional ACS.

The Postal Service is proposing to implement this change effective March 5, 2025. However, mailers may begin to request ACS immediately. We believe this proposed revision will provide customers with more efficient and less costly address correction notices.

Although exempt from the notice and comment requirements of the Administrative Procedure Act (5 U.S.C. 553(b), (c)) regarding proposed rulemaking by 39 U.S.C. 410(a), the Postal Service invites public comment on the proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service proposes to amend 39 CFR part 111 as follows:

PART 111—[AMENDED]

1. The authority citation for part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

204 Barcode Standards

* * * * *

2.0 Standards for Package and Extra Service Barcodes

2.1 Intelligent Mail Package Barcode

2.1.1 Definition

* * * * *

[Revise 2.1 by adding a new 2.1.14 to read as follows:]

2.1.14 IMpb With Ancillary Services

When certain ancillary services are used to receive separate address corrections for forwarded parcels, shippers that apply an IMpb to their parcels must request ACS under 507.4.1.5.

* * * * *

500 Additional Mailing Services

* * * * *

507 Mailer Services

1.0 Treatment of Mail

* * * * *

1.5 Treatment for Ancillary Services by Class of Mail

1.5.1 First-Class Mail, USPS Ground Advantage—Retail, USPS Ground Advantage—Commercial, and Priority Mail

Undeliverable-as-addressed First-Class Mail (including postcards), USPS Ground Advantage—Retail, USPS Ground Advantage—Commercial, and Priority Mail pieces are treated under Exhibit 1.5.1 with these additional conditions:

* * * * *

[Revise the introductory text of item f to read as follows:]

f. Address Change Service (ACS) under 4.0 is available for First-Class Mail, USPS Ground Advantage—Retail, USPS Ground Advantage—Commercial, and Priority Mail pieces with the ACS participant code for an authorized ACS participant and a valid ancillary service endorsement. Mailers participating in OneCode ACS under 4.2.6 that print an Intelligent Mail barcode on First-Class Mail automation letters may omit the participant code and endorsement. Parcel shippers must use either IMpb ACS or apply an ACS participant code to receive separate address corrections. The only endorsements permitted on First-Class Mail, USPS Ground Advantage—Retail, USPS Ground Advantage—Commercial and Priority Mail valid ACS pieces are “Address Service Requested”, “Change Service Requested” or “Electronic Service Requested” subject to the following:

* * * * *

1.5.2 Periodicals

Undeliverable-as-addressed (UAA) Periodicals publications (including publications pending Periodicals authorization) are treated as described in Exhibit 1.5.2, with these additional conditions:

* * * * *

[Revise item a by adding a new last sentence to read as follows:]

a. c. * * * Parcel shippers must use either IMpb ACS or apply an ACS participant code to receive separate address corrections.

* * * * *

1.5.3 USPS Marketing Mail

Undeliverable-as-addressed (UAA) USPS Marketing Mail pieces are treated as described in Exhibit 1.5.3, with these additional conditions:

* * * * *

[Revise the text of item f by adding a new last sentence to read as follows:]

f. * * * Parcel shippers must use either IMpb ACS or apply an ACS participant code when separate address corrections are requested.

* * * * *

1.5.4 Package Services and Parcel Select

Undeliverable-as-addressed (UAA) Package Services and Parcel Select mailpieces are treated as described in Exhibit 1.5.4, with these additional conditions:

[Revise the text of item a by adding a new last sentence to read as follows:]

a. * * * Parcel shippers must use either use IMpb ACS or apply an ACS participant code when separate address corrections are requested.

* * * * *

4.0 Address Correction Services

4.1 Address Correction Service

* * * * *

4.1.5 Other Classes

[Revise the third sentence and add a new fourth and fifth sentence of 4.1.5 to read as follows:]

* * * Except for Full-Service and Seamless acceptance mailings, when separate corrections are necessary for First-Class Mail and USPS Marketing Mail, Form 3547 is mailed to the sender with the address correction fee charged and the mail is forwarded. When separate address corrections are necessary for forwarded parcels, shippers that apply the IMpb to their parcels must request ACS and an electronic address correction notice via ACS is provided to the participant and the electronic address correction fee will be charged. There are two versions of ACS available to parcel shippers, IMpb ACS or Traditional ACS.* * *

* * * * *

Colleen Hibbert-Kapler,
Attorney, Ethics and Legal Compliance.

[FR Doc. 2024-17113 Filed 8-5-24; 8:45 am]

BILLING CODE P